DEPARTMENT OF STATE

[Public Notice: 9170]

Issuance of a Presidential Permit To Reconfigure, Expand, Operate, and Maintain a Vehicle and Pedestrian Border Crossing Called “Calexico West” in Calexico, California, at the International Boundary Between the United States and Mexico

SUMMARY: The Department of State issued a Presidential Permit to the General Services Administration (GSA) on June 9, 2015, authorizing the GSA to reconfigure, expand, operate, and maintain a vehicle and pedestrian border crossing called “Calexico West” in Calexico, California, at the international boundary between the United States and Mexico. In making this determination, the Department provided public notice of the proposed permit (76 FR 19825, April 8, 2011), offered the opportunity for comment, and consulted with other federal agencies, as required by Executive Order 11423, as amended.

FOR FURTHER INFORMATION CONTACT: Contact the Mexico Border Affairs Unit, via email at WHA-BorderAffairs@state.gov, by phone at 202 647-9895, or by mail at Office of Mexican Affairs—Room 3924, Department of State, 2201 C St. NW., Washington, DC 20520. Information about Presidential permits is available on the Internet at http://www.state.gov/p/wha/rt/permit/.

SUPPLEMENTARY INFORMATION: The following is the text of the issued permit:

PRESIDENTIAL PERMIT

AUTHORIZING THE GENERAL SERVICES ADMINISTRATION TO RECONFIGURE, EXPAND, OPERATE, AND MAINTAIN A VEHICLE AND PEDESTRIAN BORDER CROSSING CALLED “CALEXICO WEST” IN CALEXICO, CALIFORNIA, AT THE INTERNATIONAL BOUNDARY BETWEEN THE UNITED STATES AND MEXICO

By virtue of the authority vested in me as Under Secretary for Economic Growth, Energy, and the Environment under Executive Order 11423, 33 FR 11741 (1963), as amended by Executive Order 12847 of May 17, 1993, 58 FR 29511 (1993), Executive Order 13284 of January 23, 2003, 68 FR 4075 (2003), and Executive Order 13337 of April 30, 2004, 69 FR 25299 (2004) and Department of State Delegation of Authority number 118-2 of January 26, 2006; having considered the environmental effects of the proposed action consistent with the National Environmental Policy Act of 1969, as amended (83 Stat. 852, 42 U.S.C. 4321 et seq.) and other statutes relating to environmental concerns; having considered the proposed action consistent with the National Historic Preservation Act of 1966, as amended (80 Stat. 917, 16 U.S.C. 470f et seq.); and having requested and received the views of various federal departments and other interested persons; I hereby grant permission, subject to the conditions herein set forth, to the United States General Services Administration (GSA) (hereinafter referred to as the “permittee”), to reconfigure, expand, and continue to operate and maintain a privately owned vehicle and pedestrian Land Port of Entry (hereinafter referred to as “Calexico West”), in Calexico, CA.

* * * * *

The term “facilities” as used in this permit means the land, structures, and appurtenant installations that form the Calexico West Land Port of Entry. The facilities include approximately 2.34 acres located on the southern edge of the Calexico, CA, downtown area.

This permit is subject to the following conditions:

Article 1. The facilities herein described, and all aspects of their operation, shall be subject to all the conditions, provisions and requirements of this permit and any amendment thereof. This permit may be terminated upon a determination of the Executive Branch that the Calexico West Land Port of Entry shall be closed. This permit may be amended by the Secretary of State or the Secretary's delegate in consultation with the permittee and, as appropriate, other Executive Branch agencies; the permittee's obligation to implement such an amendment is subject to the availability of funds. The permittee shall make no substantial change in the location of the facilities or in the operation authorized by this permit until such changes have been approved by the Secretary of State or the Secretary's delegate.

Article 2. The permittee shall comply with all applicable federal laws and regulations regarding the construction, operation and maintenance of the facilities. Further, the permittee shall comply with nationally recognized codes to the extent required under 40 U.S.C. 3312(b). The permittee shall cooperate with state and local officials to the extent required under 40 U.S.C. 3312(d).

Article 3. In the event that the Calexico West Land Port of Entry is permanently closed and is no longer used as an international crossing, this permit shall terminate and the permittee may manage, utilize, or dispose of the facilities in accordance with its statutory authorities.

Article 4. The permittee is a federal agency that is responsible for managing and operating the Calexico West Land Port of Entry, as authorized by applicable federal laws and regulations. This permit shall continue in full force and effect for only so long as the permittee shall continue the operations hereby authorized.

Article 5. The permittee shall immediately notify the United States Department of State of any decision to transfer custody and control of the facilities or any part thereof to any other any agency or department of the United States Government. Said notice shall identify the transferee agency or department and seek the approval of the United States Department of State for the transfer of the permit. In the event of approval by the Department of State of such transfer of custody and control to another agency or department of the United States Government, the permit shall remain in force and effect, and the facilities shall be subject to all the conditions, permissions and requirements of this permit and any amendments thereof. The permittee may transfer ownership or control of the facilities to a non-federal entity or individual only upon the prior express approval of such transfer by the United States Department of State, which approval may include such conditions, permissions and requirements that the Department of State, in its discretion, determines are appropriate and necessary for inclusion in the permit, to be effective on the date of transfer.

Article 6. (1) The permittee or its agent shall acquire and maintain such right-of-way grants or easements and permits as may become necessary and appropriate.

(2) The permittee shall maintain the facilities and every part thereof in a condition of good repair for their safe operation, and in compliance with prevailing environmental standards and regulations.

Article 7. (1) The permittee shall take or cause to be taken all appropriate measures to prevent or mitigate adverse impacts on, or disruption of, the human environment in connection with the construction, operation and maintenance of the facilities, including avoidance, minimization and mitigation measures and the mitigation monitoring and enforcement program adopted by the permittee in the Record of Decision issued in connection with the Final Environmental Impact Statement.

(2) Before issuing the notice to proceed for construction, the permittee shall obtain the concurrence of the U.S. Section of the International Boundary and Water Commission.

Article 8. The permittee shall file any applicable statements and reports that might be required by applicable federal law in connection with this project.

Article 9. The permittee shall not issue a notice to proceed for construction work until the Department of State has provided notification to the permittee that the Department has completed its exchange of diplomatic notes with the Government of Mexico regarding authorization of construction. The permittee shall provide written notice to the Department of State at such time as the construction authorized by this permit is begun, and again at such time as construction is completed, interrupted for more than ninety days or discontinued.

Article 10. This permit is not intended to, and does not, create any right, benefit, or trust responsibility, substantive or procedural, enforceable at law or in equity, by any party against the United States, its departments, agencies, instrumentalities or entities, its officers or employees, in their individual or official capacities, or any other person.

In witness whereof, I, Catherine A. Novelli, Under Secretary for Economic Growth, Energy, and the Environment of the United States, have hereunto set my hand this 9th day of June, 2015, in the City of Washington, District of Columbia.

Catherine A. Novelli,
Under Secretary of State, United States Department of State.
Rachel M. Poynter,
Acting Director, Office of Mexican Affairs, Bureau of Western Hemisphere Affairs, U.S. Department of State.

[FR Doc. 2015-14804 Filed 6-15-15; 8:45 am]

BILLING CODE 4710-29-P